NATIONAL ARCHIVES AND RECORDS ADMINISTRATION

Information Security Oversight Office

[NARA-2020-003]

National Industrial Security Program Policy Advisory Committee (NISPPAC); Meeting

AGENCY: Information Security Oversight Office (ISOO), National Archives and Records Administration (NARA).

ACTION: Notice of Federal Advisory Committee meeting.

SUMMARY: We are announcing an upcoming meeting of the National Industrial Security Program Policy Advisory Committee (NISPPAC).

DATES: The meeting will be on November 20, 2019, from 10:00 a.m. to 12:30 p.m.

ADDRESSES: National Archives and Records Administration; 700 Pennsylvania Avenue NW; McGowan Theater; Washington, DC 20408.

FOR FURTHER INFORMATION CONTACT: Robert Tringali, Program Analyst, ISOO, by mail at National Archives and Records Administration; 700 Pennsylvania Avenue NW; Washington, DC 20408, by telephone at 202.357.5335, or by email at robert.tringali@nara.gov. Contact ISOO at ISOO@nara.gov and the NISPPAC at NISPPAC@nara.gov.

SUPPLEMENTARY INFORMATION: The purpose of this meeting is to discuss National Industrial Security Program policy matters.

This meeting will be open to the public, in accordance with the Federal Advisory Committee Act (5 U.S.C. app 2) and implementing regulations. However, due to space limitations and access procedures, you must submit the name and telephone number of individuals planning to attend to the Information Security Oversight Office (ISOO) no later than Friday, November 15, 2019. ISOO will provide additional instructions for accessing the meeting's location. Note: Please enter through the Constitution Ave. special events entrance.

Miranda J. Andreacchio,
Committee Management Officer.

[FR Doc. 2019-21705 Filed 10-4-19; 8:45 am]

BILLING CODE 7515-01-P